DEPARTMENT OF JUSTICE

Notice of Lodging of Proposed Consent Decree Under the Clean Air Act

On March 27, 2023, the Department of Justice lodged a proposed consent decree with the United States District Court for the District of New Mexico in the lawsuit entitled United States of America and New Mexico Environment Department v. Matador Production Company, Civil Action No. 23-cv-00260.

In this action, the United States, on behalf of the U.S. Environmental Protection Agency, and the New Mexico Environment Department filed a complaint alleging that Matador Production Company (“Defendant”) violated the Clean Air Act, the New Mexico Air Quality Control Act, and the implementing regulations at 25 of Defendant's oil and natural gas production facilities in New Mexico by, inter alia, failing to comply with applicable emissions standards for VOC, NOX and CO and failing to submit a Notice of Intent or register for a General Construction Permit as required. The complaint seeks an Order enjoining Defendant from further violating applicable requirements and requiring Defendant to remedy, mitigate, and offset the harm to public health and the environment caused by the violations and to pay a civil penalty.

Under the proposed settlement, Defendant agrees to pay a civil penalty of $1,150,000 (of which $650,000 is to be paid to the United States and $500,000 is to be paid to the State of New Mexico) and to spend at least $1,250,000 on a diesel emission reduction Supplemental Environmental Project (“SEP”) and at least $500,000 on a state aerial emission monitoring SEP.

In addition, the settlement requires the Defendant to ensure ongoing compliance with all applicable regulatory requirements at all 255 of its oil and natural gas production facilities in New Mexico. Specifically, the settlement requires the Defendant to identify and remedy any compromised equipment, undertake a design analysis to ensure adequate design and sizing of the vapor control system, install and operate extensive monitoring systems, implement a robust inspection and maintenance program, and hire an independent third party to verify compliance.

The publication of this notice opens a period for public comment on the proposed consent decree. Comments should be addressed to the Assistant Attorney General, Environment and Natural Resources Division, and should refer to United States and New Mexico Environment Department v. Matador Production Company, D.J. Ref. No. 90-5-2-1-12297. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the proposed consent decree may be examined and downloaded at this Justice Department website: http://www.justice.gov/enrd/consent-decrees. We will provide a paper copy of the proposed consent decree upon written request and payment of reproduction costs. Please mail your request and payment to: Consent Decree Library, U.S. DOJ-ENRD, P.O. Box 7611, Washington, DC 20044-7611.

Please enclose a check or money order for $33.75 (25 cents per page reproduction cost) payable to the United States Treasury.

Thomas Carroll,
Assistant Section Chief, Environmental Enforcement Section, Environment and Natural Resources Division.

[FR Doc. 2023-06651 Filed 3-30-23; 8:45 am]

BILLING CODE 4410-15-P